AGENCY FOR INTERNATIONAL DEVELOPMENT

Notice of Advisory Committee Public Meeting

AGENCY: Agency for International Development (USAID).

ACTION: Notice of advisory committee public meeting and request for public comment.

SUMMARY: Pursuant to the Federal Advisory Committee Act (FACA), notice is hereby given of Advisory Committee on Voluntary Foreign Aid (ACVFA) public meeting on Thursday, December 12, 2024.

ADDRESSES: To view additional information related to ACVFA please visit https://www.usaid.gov/organization/advisory-committee.

The meeting will feature remarks by the USAID Administrator and the ACVFA Chair, and two discussion panels featuring ACVFA members on (1) development and national security, and (2) ongoing challenges and opportunities for USAID policy and programming.

You may submit comments regarding the work of ACVFA to acvfa@usaid.gov. Include “Public Comment, ACVFA Meeting, December 12, 2024” in the subject line. All public comments and questions will be included in the official record of the meeting and posted publicly on the USAID website.

American Sign Language interpretation will be provided during the public meeting. If you require a reasonable accommodation, please email reasonableaccommodations@usaid.gov. Include “Request for Reasonable Accommodation, ACVFA Meeting, December 12, 2024” in the subject line.

The entirety of this meeting is open to the public. You may register to watch the live public meeting at this link: https://usaid.zoomgov.com/webinar/register/WN_JQF23hAxRFmqPNJZLt1ZfQ.

FOR FURTHER INFORMATION CONTACT: Karen Vargas, Designated Federal Officer for ACVFA, at kvargas@usaid.gov or 202-705-5769.

SUPPLEMENTARY INFORMATION: ACVFA is USAID's external advisory committee, bringing together representatives from private voluntary organizations, nongovernmental organizations, academia, civil society, and the private sector to foster understanding, communication, and cooperation in the area of foreign aid.

Pursuant to its charter, ACVFA is holding an annual public meeting on December 12, 2024, from 10:30 a.m.-12 p.m. ET. This meeting is free and open to the public. The Committee welcomes public participation and comment via the web and/or email addresses provided above.

Karen Vargas,
ACVFA Designated Federal Officer.

[FR Doc. 2024-27793 Filed 11-26-24; 8:45 am]

BILLING CODE 6116-01-P